DEPARTMENT OF TRANSPORTATION

Federal Aviation Administration

14 CFR Part 73

[Docket No. FAA-2010-0201; Airspace Docket No. 10-ASO-19]

RIN 2120-AA66

Amendment of Using Agency for Restricted Areas R-3005A, R-3305B, R-3005C, R-3005D and R-3005E; Fort Stewart, GA

AGENCY: Federal Aviation Administration (FAA), DOT.

ACTION: Final rule.

SUMMARY: This action changes the using agency of restricted areas R-3005A, R-3005B, R-3005C, R-3005D and R-3005E, Fort Stewart, GA, to “Commander, U.S. Army Garrison, Fort Stewart, GA.” There are no changes to the boundaries; designated altitudes; time of designation; or activities conducted within the affected restricted area.

DATES: Effective date 0901 UTC, June 3, 2010. The Director of the Federal Register approves this incorporation by reference action under 1 CFR part 51, subject to the annual revision of FAA Order 7400.9 and publication of conforming amendments.

FOR FURTHER INFORMATION CONTACT: Paul Gallant, Airspace and Rules Group, Office of System Operations Airspace and AIM, Federal Aviation Administration, 800 Independence Avenue, SW., Washington, DC 20591; telephone: (202) 267-8783.

SUPPLEMENTARY INFORMATION:

History

On December 29, 2009, the U.S. Army requested that the FAA change the name of the using agency for restricted areas R-3005A, R-3005B, R-3005C, R-3005D and R-3005E at Fort Stewart, GA, to “Commander, U.S. Army Garrison, Fort Stewart, GA.” This change is required due to the reorganization of the Fort Stewart Installation command structure.

The Rule

This action amends Title 14 Code of Federal Regulations (14 CFR) part 73 by amending the using agency for restricted areas R-3005A, R-3005B, R-3005C, R-3005D and R-3005E at Fort Stewart, GA to reflect current organizational management responsibilities. This is an administrative change and does not affect the boundaries, designated altitudes, or activities conducted within the restricted area; therefore, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action qualifies for categorical exclusion under the National Environmental Policy Act in accordance with 311d., FAA Order 1050.1E, Environmental Impacts: Policies and Procedures. This airspace action is an administrative change to the descriptions of the affected restricted areas to update the using agency name. It does not alter the dimensions, altitudes, or times of designation of the airspace; therefore, it is not expected to cause any potentially significant environmental impacts, and no extraordinary circumstances exist that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.30 [Amended]

2. § 73.30 is amended as follows:

1. R-3005A Fort Stewart, GA [Amended]

Under Using agency, by removing the words “Commanding Officer, Fort Stewart, GA” and inserting the words “Commander, U.S. Army Garrison, Fort Stewart, GA.”

2. R-3005B Fort Stewart, GA [Amended]

Under Using agency, by removing the words “Commanding Officer, Fort Stewart, GA” and inserting the words “Commander, U.S. Army Garrison, Fort Stewart, GA.”

3. R-3005C Fort Stewart, GA [Amended]

Under Using agency, by removing the words “Commanding Officer, Fort Stewart, GA” and inserting the words “Commander, U.S. Army Garrison, Fort Stewart, GA.”

4. R-3005D Fort Stewart, GA [Amended]

Under Using agency, by removing the words “Commanding Officer, Fort Stewart, GA” and inserting the words “Commander, U.S. Army Garrison, Fort Stewart, GA.”

5. R-3005E Fort Stewart, GA [Amended]

Under Using agency, by removing the words “Commanding Officer, Fort Stewart, GA” and inserting the words “Commander, U.S. Army Garrison, Fort Stewart, GA.”

Issued in Washington, DC, on March 17, 2010.
Edith V. Parish,
Manager, Airspace and Rules Group.

[FR Doc. 2010-6493 Filed 3-23-10; 8:45 am]

BILLING CODE 4910-13-P